DEPARTMENT OF COMMERCE

International Trade Administration

[A-557-813, A-549-821, A-570-886]

Polyethylene Retail Carrier Bags From Malaysia, Thailand, and the People's Republic of China: Extension of Time Limit for Preliminary Results of Antidumping Duty Administrative Reviews

AGENCY: International Trade Administration, Department of Commerce.

DATES: Effective Date: April 15, 2009.

FOR FURTHER INFORMATION CONTACT: Jerrold Freeman or Richard Rimlinger, AD/CVD Operations, Office 5, Import Administration, International Trade Administration, U.S. Department of Commerce, 14th Street and Constitution Avenue, NW., Washington, DC, 20230; telephone: (202) 482-0180 or (202) 482-4477, respectively.

SUPPLEMENTARY INFORMATION:

Background

At the request of interested parties, the Department of Commerce (the Department) initiated administrative reviews of the antidumping duty orders on polyethylene retail carrier bags from Malaysia, Thailand, and the People's Republic of China for the period August 1, 2007, through July 31, 2008. See Initiation of Antidumping and Countervailing Duty Administrative Reviews and Requests for Revocation in Part, 73 FR 56795 (September 30, 2008).

Extension of Time Limit for Preliminary Results

Section 751(a)(3)(A) of the Tariff Act of 1930, as amended (the Act), requires the Department to make a preliminary determination within 245 days after the last day of the anniversary month of an order for which a review is requested and a final determination within 120 days after the date on which the preliminary determination is published. If it is not practicable to complete the review within these time periods, section 751(a)(3)(A) of the Act allows the Department to extend the time limit for the preliminary determination to a maximum of 365 days after the last day of the anniversary month. See also 19 CFR 351.213(h)(2).

We determine that it is not practicable to complete the preliminary results of these three administrative reviews by the current deadline of May 3, 2009, for several reasons. Specifically, the Department has granted the respondents in each of the reviews several extensions to respond to the original and supplemental questionnaires. Thus, the Department needs additional time to review and analyze the responses submitted by the respondents in each review. Further, the Department requires additional time to review, and verify as appropriate, cost-of-production and/or sales information submitted by various respondents in each of the reviews. Therefore, in accordance with section 751(a)(3)(A) of the Act and 19 CFR 351.213(h)(2), we are partially extending the time period for issuing the preliminary results of these reviews until July 2, 2009.

This notice is published in accordance with sections 751(a)(3)(A) and 777(i)(1) of the Act and 19 CFR 351.213(h)(2).

Dated: April 9, 2009.
John M. Andersen,
Acting Deputy Assistant Secretary for Antidumping and Countervailing Duty Operations.

[FR Doc. E9-8647 Filed 4-15-09; 8:45 am]

BILLING CODE 3510-DS-P